DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collection: Application for Farm Labor Contractor and Farm Labor Contractor Employee Certificate of Registration (WH-530). Copies of the proposed information collection request can be obtained by contacting the office listed below in the addressee section of this Notice.

DATES: Written comments must be submitted to the office listed in the addressee section below on or before November 17, 2000.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

I. Background

Section 101(a) of the Migrant and Seasonal Workers Protection Act (MSPA) provides that no person shall engage in any farm labor contracting activity unless such person has a certificate of registration from the Secretary of Labor specifying which farm labor contracting activities such person is authorized to perform. Further, Section 102(b) of MSPA provides that a farm labor contractor shall not hire, employ or use any individual to perform farm labor contracting activities unless such individual has a certificate of registration as a farm labor contractor, or a certificate of registration as an employee of a farm labor contractor employer, which authorizes the activity for which the individual is hired, employed or used.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to provide the means for a farm labor contractor or a farm labor contractor employee to obtain a certificate authorizing farm labor employment under the Act.

Review: Extension.

Agency: Employment Standards Administration.

Title: Application for Farm Labor Contractor and Farm Labor Contractor Employee Certificate of Registration.

OMB Number: 1215-0037.

Agency Number: WH-530.

Affected Public: Individuals or households; Business or other for-profit; Farms.

Total Respondents: 9,200.

Frequency: On occasion; Biennially.

Total Responses: 9,200.

Time per Response: 30 minutes.

Estimated Total Burden Hours: 4,600.

Total Burden Cost (capital/startup): $0.

Total Burden Cost (operating/maintenance): $2,153.

Comments submitted in response to this notice will be summarized and/or included in the request for Office of Management and Budget approval of the information collection request; they will also become a matter of public record.

Dated: September 12, 2000.
Margaret J. Sherrill,
Chief, Branch of Management Review and Internal Control, Division of Financial Management, Office of Management, Administration and Planning, Employment Standards Administration.

[FR Doc. 00-23927 Filed 9-15-00; 8:45 am]

BILLING CODE 4510-27-M